DEPARTMENT OF TRANSPORTATION

Federal Motor Carrier Safety Administration

49 CFR Chapter III

[Docket No. FMCSA-2018-0037]

Federal Motor Carrier Safety Regulations (FMCSRs) Which May Be a Barrier to the Safe Integration of Automated Driving Systems (ADS) in Commercial Motor Vehicle (CMV) Operations; Public Meeting

AGENCY: Federal Motor Carrier Safety Administration (FMCSA), DOT.

ACTION: Notice of public listening session.

SUMMARY: FMCSA announces a public listening session on June 19, 2018, to solicit information on issues relating to the design, development, testing, and integration of ADS-equipped CMVs on our Nation's roadways. The listening session will provide interested parties with an opportunity to assist the Agency's future rulemaking efforts by sharing their views on the FMCSRs as they relate to the development and safe integration of ADS. It will also allow FMCSA to share with stakeholders the Agency's ADS strategy and open a channel for two-way communication. This listening session will supplement the information gathered from FMCSA's previous requests for comment on issues related to automation by targeting stakeholders from whom they have not previously received comments, including academia, insurance groups, and technology providers and developers. Attendees are also encouraged to share any data or analysis on this topic with Agency representatives.

DATES: The meeting will be held Tuesday, June 19, 2018, from 1:00 p.m. to 3:00 p.m., Eastern Daylight Time (EDT), at the University of Michigan's Mcity in Ann Arbor, Michigan. Research Auditorium, 2800 Plymouth Street, Bldg. 10, Ann Arbor, MI 48109.

Please use the following link to RSVP and find additional information about this public meeting as it approaches: https://fmcsaads.eventbrite.com/. Information about this listening session can also be found at: https://www.transportation.gov/AV.

FOR FURTHER INFORMATION CONTACT: Mr. William Cunnane, Program Specialist, Program Integration Office, Federal Motor Carrier Safety Administration, U.S. Department of Transportation, 1200 New Jersey Avenue SE, Washington, DC 20590, email: fmcsaads@dot.gov.

Services for Individuals with Disabilities: For information on facilities or services for individuals with disabilities or to request special assistance at the meeting, please contact Victoria Waters at (734) 647-4217 by June 12, 2018.

SUPPLEMENTARY INFORMATION:

I. Background

FMCSA is responsible for overseeing the safety of CMVs, their drivers, and those motor carriers operating CMVs in interstate commerce. The Agency works with Federal, State, and local enforcement agencies, the motor carrier industry, safety groups, and organized labor to reduce crashes, injuries, and fatalities involving large trucks and buses.

The FMCSRs provide rules to support the safe operation of CMVs, as defined in 49 CFR 390.5, which includes vehicles with a gross vehicle weight/gross combination weight or gross vehicle weight rating/gross combination weight rating, whichever is greater, of 10,001 pounds or more; passenger-carrying vehicles designed or used to transport nine to 15 passengers for direct compensation; passenger-carrying vehicles designed or used to transport 16 or more passengers; and any size vehicle transporting hazardous materials in a quantity requiring placards.

On September 12, 2017, the Department published the Automated Driving Systems (ADS): A Vision for Safety 2.0. (the Voluntary Guidance), adopting the SAE International (SAE) J3016 standard's definitions for levels of automation.¹ The SAE definitions divide vehicles into levels based on “who does what, when.” Generally:

¹ Publication No. DOT HS 812 442.

• SAE Level 0, No Driving Automation; the driver performs all driving tasks.

• SAE Level 1, Driver Assistance; the vehicle is controlled by the driver, but some driving assist features may be included in the vehicle design.

• SAE Level 2, Partial Driving Automation; the vehicle has combined automated functions, like acceleration and steering, but the driver must remain engaged with the driving task and monitor the environment at all times.

• SAE Level 3, Conditional Driving Automation; the driver is a necessity, but is not required to monitor the environment. The driver must be ready to take control of the vehicle at all times with notice.

• SAE Level 4, High Driving Automation; the vehicle is capable of performing all driving functions under certain conditions. The driver may have the option to control the vehicle.

• SAE Level 5, Full Driving Automation: the vehicle is capable of performing all driving functions under all conditions.

Using the SAE levels described above, the Department draws a distinction between Levels 0-2 and 3-5 based on whether the human driver or the automated system is primarily responsible for monitoring the driving environment. For the purposes of this public meeting, FMCSA's primary focus is SAE Levels 3-5 ADS.

FMCSA encourages the development of these advanced safety technologies for use in CMVs. The Agency also recognizes the need to work with the States and localities to ensure that all testing and use of these advanced safety systems supports the safe operation and deployment of ADS-equipped CMVs.

II. FMCSA's 2018 Request for Comments

On March 28, 2018, FMCSA published “Request for Comments (RFC) Concerning Federal Motor Carrier Safety Regulations (FMCSRs) Which May Be a Barrier to the Safe Testing and Deployment of Automated Driving Systems-Equipped Commercial Motor Vehicles on Public Roads.” ² The notice solicited public comments on existing Federal Motor Carrier Safety Regulations (FMCSRs) that may need to be updated, modified, or eliminated to facilitate the safe introduction of automated driving systems (ADS)-equipped commercial motor vehicles (CMVs) onto our Nation's roadways. The Agency indicated that it had commissioned the U.S. Department of Transportation's (DOT) John A. Volpe National Transportation Systems Center (Volpe) to conduct a preliminary review of the FMCSRs to identify regulations that may relate to the development, testing, and safe deployment of ADS. The Agency requested comments on this report in the RFC, including whether any of FMCSA's current safety regulations presented barriers to innovation and research related to ADS-equipped CMVs. Further, FMCSA requested comments on certain FMCSRs likely to be affected as ADS-equipped CMVs are increasingly integrated into our roadways, including regulations concerning hours of service and driver fatigue, the use of electronic devices, roadside inspection, and Commercial Driver's License requirements.

² Docket No. FMCSA-2018-0037 [March 26, 2018-May 10, 2018].

To further support FMCSA's effort to understand necessary changes to the FMCSRs, FMCSA requested information from companies and others engaged in the design, development, testing, and integration of ADS-equipped CMVs into their fleets. Specifically, the Agency requested information about: (1) The scenarios and environments in which ADS is being tested and will soon be integrated into CMVs operating on public roads or in interstate commerce; (2) the operational design domains (ODD) in which these systems are being operated, tested, and deployed; and (3) suggested measures to ensure the protection of any proprietary or confidential business information shared with the Agency on this topic.

The comment period ended on May 10, 2018. Interested parties can view the comments the Agency received at www.regulations.gov (docket number FMCSA-2018-0037).

In the Spring Regulatory and Deregulatory Agenda issued after the publication of the March 28 RFC notice, FMCSA announced the initiation of rulemaking concerning ADS-equipped CMVs beginning with an Advance Notice of Proposed Rulemaking (ANPRM), which is currently scheduled to be published in December 2018 (“Safe Integration of Automated Driving Systems-Equipped Commercial Motor Vehicles,” 2126-AC17).

III. Meeting Participation

FMCSA hopes to supplement the information gathered from the RFC by targeting stakeholders from whom they have not previously received many comments, including academia, insurance groups, and technology providers and developers. The listening session will provide interested parties an opportunity to assist the Agency's future rulemaking efforts by sharing their views on the FMCSRs as they relate to the development and safe integration of ADS through oral presentations. FMCSA also hopes to use this listening session as a platform to share the Agency's ADS strategy with the public. The Agency will provide the public with all relevant details and the opportunity to register for this meeting at https://fmcsaads.eventbrite.com/. Information about this listening session can also be found at: https://www.transportation.gov/AV.

Oral comments from the public will be heard during the meeting. Members of the public may also submit written comments to public docket referenced at the beginning of this notice using any of the following methods:

• Federal eRulemaking Portal: Go to http://www.regulations.gov. Follow the online instructions for submitting comments.

• Fax: 202-493-2251.

• Mail: Docket Management Facility; U.S. Department of Transportation, 1200 New Jersey Avenue SE, Room W12-140, Washington, DC 20590.

• Hand Delivery: U.S. Department of Transportation, 1200 New Jersey Avenue SE, West Building, Room W12-140, Washington, DC, between 9 a.m. and 5 p.m., E.T. Monday through Friday, except Federal holidays.

Issued on: June 5, 2018.
Raymond P. Martinez,
Administrator.

[FR Doc. 2018-12499 Filed 6-8-18; 8:45 am]

BILLING CODE 4910-EX-P